DEPARTMENT OF COMMERCE

International Trade Administration

Notice of Scope Rulings

AGENCY: Enforcement and Compliance, International Trade Administration, Department of Commerce.

DATES: Effective date: June 16, 2015.

SUMMARY: The Department of Commerce (“Department”) hereby publishes a list of scope rulings and anticircumvention determinations made between January 1, 2015, and March 31, 2015, inclusive. We intend to publish future lists after the close of the next calendar quarter.

FOR FURTHER INFORMATION CONTACT: Brenda E. Waters, AD/CVD Operations, Customs Liaison Unit, Enforcement and Compliance, International Trade Administration, U.S. Department of Commerce, 14th Street and Constitution Avenue NW., Washington, DC 20230; telephone: 202-482-4735.

SUPPLEMENTARY INFORMATION:

Background

The Department's regulations provide that the Secretary will publish in the Federal Register a list of scope rulings on a quarterly basis.¹ Our most recent notification of scope rulings was published on April 24, 2015.² This current notice covers all scope rulings and anticircumvention determinations made by Enforcement and Compliance between January 1, 2015, and March 31, 2015, inclusive. Subsequent lists will follow after the close of each calendar quarter.

¹ See 19 CFR 351.225(o).

² See Notice of Scope Rulings, 80 FR 22969 (April 24, 2015).

Scope Rulings Made Between January 1, 2015 and March 31, 2015

Japan

A-588-869: Diffusion-Annealed Nickel-Plated Flat-Rolled Steel Products From Japan

Requestor: Saft America; certain nickel-plated punched steel also known as NI coated steel Strip and Flat Rolled lOS NA, LT 600MM, Plated/Coated, NESOI products are outside the scope of the order; January 5, 2015.

Mexico

A-201-805: Circular Welded Non-Alloy Steel Pipe From Mexico

Requestor: Productos Lamaninados de Monterrey, S.A. de C.V. (Prolamsa); certain black, circular tubing produced to American Society of Testing and Materials standard A-513 and manufactured by Prolamsa is “mechanical tubing” specifically excluded from the scope of the order; January 12, 2015.

People's Republic of China

A-570-967 and C-570-968: Aluminum Extrusions From the People's Republic of China

Requestor: Camco Manufacturing, Inc. (“Camco”); Camco's 20-foot telescoping flag poles, consisting of aluminum extrusion tubes, finials, carabiners, capping balls, locking buttons, tube stops and caps, and flag clips, are outside the scope of the order under the finished goods exclusion because they are finished goods containing aluminum extrusions as parts that are fully and permanently assembled and completed at the time of entry; January 8, 2015.

A-570-967 and C-570-968: Aluminum Extrusions From the People's Republic of China

Requestor: Sign-Zone, Inc.; Sign-Zones “Premium Event Tent Frames” are outside the scope of the orders because the tent frames constitute “finished merchandise containing aluminum extrusions as parts that are fully and permanently assembled and completed at the time of entry;” January 23, 2015.

A-570-967 and C-570-968: Aluminum Extrusions From the People's Republic of China

Requestor: 5 Diamond Promotions, Inc. (“5 Diamond”); 5 Diamond's aluminum flag pole kits are within the scope of the orders because the aluminum flag pole kits do not meet the exclusion criteria for a “finished goods kit,” as the aluminum flag pole kits solely contain aluminum extrusions and fasteners; February 5, 2015.

A-570-967 and C-570-968: Aluminum Extrusions From the People's Republic of China

Requestor: Unger Enterprises Inc. (“Unger”); Unger's telescoping poles, consisting of aluminum extrusion tubes, polypropylene tube plugs, polypropylene hand grips, and polypropylene locking collars, are outside the scope of the orders under the finished goods exclusion because they are finished goods containing aluminum extrusions as parts that are fully and permanently assembled and completed at the time of entry; February 19, 2015.

A-570-967 and C-570-968: Aluminum Extrusions From the People's Republic of China

Requestor: Aqua EZ, Inc. (“Aqua EZ”); Aqua EZ's side cam-lock telepoles and ribbed telescopic poles, consisting of aluminum extrusion tubes, white plastic locking mechanisms, and white plastic handles, are outside the scope of the orders under the finished goods exclusion because they are finished goods containing aluminum extrusions as parts that are fully and permanently assembled and completed at the time of entry; March 2, 2015.

A-570-967 and C-570-968: Aluminum Extrusions From the People's Republic of China

Requestor: Ford Atlantic; Ford Atlantic's wall standards are within the scope of the orders because the wall standards do not meet the exclusion criteria for a finished good as the wall standards do not contain non-aluminum extruded components beyond fasteners. Ford Atlantic's folding tripod display easels, consisting of aluminum extrusions and non-extruded aluminum components (i.e., various non-extruded joints, connectors, and caps) which go beyond mere fasteners, are outside the scope of the orders under the finished goods exclusion because they are finished goods containing aluminum extrusions as parts that are fully and permanently assembled and completed at the time of entry; March 4, 2015.

A-570-890: Wooden Bedroom From the People's Republic of China

Requestor: Bassett Mirror Company, Inc.; Borghese Lady's Writing Desk is excluded from the scope of the antidumping duty order because it is office furniture; March 26, 2015.

Interested parties are invited to comment on the completeness of this list of completed scope and anticircumvention inquiries. Any comments should be submitted to the Deputy Assistant Secretary for AD/CVD Operations, Enforcement and Compliance, International Trade Administration, 14th Street and Constitution Avenue NW., APO/Dockets Unit, Room 1870, Washington, DC 20230.

This notice is published in accordance with 19 CFR 351.225(o).

Dated: June 5, 2015.
Christian Marsh,
Deputy Assistant Secretary for Antidumping and Countervailing Duty Operations.

[FR Doc. 2015-14768 Filed 6-15-15; 8:45 am]

BILLING CODE 3510-DS-P